DEPARTMENT OF ENERGY

Federal Energy Regulatory Commission

[Project No. 14854-000]

Dominion Energy Services, Inc.; Notice of Preliminary Permit Application Accepted for Filing and Soliciting Comments, Motions To Intervene, and Competing Applications

On September 6, 2017, Dominion Energy Services, Inc., filed an application for a preliminary permit, pursuant to section 4(f) of the Federal Power Act (FPA), proposing to study the feasibility of the Tazewell Hybrid Energy Center Project to be located approximately 1.0 mile southwest of the Town of Bluefield in Tazewell County, Virginia. The sole purpose of a preliminary permit, if issued, is to grant the permit holder priority to file a license application during the permit term. A preliminary permit does not authorize the permit holder to perform any land-disturbing activities or otherwise enter upon lands or waters owned by others without the owners' express permission.

The proposed project would consist of one of the following two alternatives:

Alternative 1—(1) a new 3,263-foot-long, 380-foot-high concrete-face rockfill dam for the upper reservoir with a 150-foot-long concrete-lined emergency spillway; (2) a new 1,723-foot-long, 288-foot-high concrete-face rockfill dam for the lower reservoir with a 150-foot-long concrete-lined emergency spillway; (3) a new upper reservoir with a surface area of 112 acres and a storage capacity of 8,173 acre-feet at a surface elevation of 3,830 feet above mean sea level (msl); (4) a new lower reservoir with a surface area of 96 acres and a storage capacity of 8,173 acre-feet at a surface elevation of 3,238 feet msl; (5) a new 9.5-mile-long water source conveyance from the proposed water source to the project; (6) a new 5,235-foot-long penstock connecting the upper and lower reservoirs; (7) a new 250-foot-long, 100-foot-wide, 150-foot-high underground reinforced-concrete powerhouse containing two pump-turbine generator units with a total rated capacity of 446 megawatts (MW) and a rated gross hydraulic head of 621 feet; (8) a new switchyard/substation that ties directly into an existing 765-kilovolt (kV) transmission line; and (9) appurtenant facilities.

Alternative 2—(1) a new 3,263-foot-long, 380-foot-high concrete-face rockfill dam for the upper reservoir with a 150-foot-long concrete-lined emergency spillway; (2) a new 1,680-foot-long, 257-foot-high concrete-face rockfill dam for the lower reservoir with a 150-foot-long concrete-lined emergency spillway; (3) a new upper reservoir with a surface area of 112 acres and a storage capacity of 11,135 acre-feet at a surface elevation of 3,830 feet msl; (4) a new lower reservoir with a surface area of 144 acres and a storage capacity of 11,135 acre-feet at a surface elevation of 2,937 feet msl; (5) a new 10.5-mile-long water source conveyance from the proposed water source to the project; (6) a new 4,965-foot-long penstock connecting the upper and lower reservoirs; (7) a new 350-foot-long, 100-foot-wide, 150-foot-high underground reinforced-concrete powerhouse containing three pump-turbine generator units with a total rated capacity of 870 MW and a rated gross hydraulic head of 887 feet; (8) a new switchyard/substation that ties directly into an existing 765-kV transmission line; and (9) appurtenant facilities.

Under both alternatives, mine water would serve as the water source for the initial fill and makeup water.

The proposed project would have an annual generation of 1,302 gigawatt-hours (GWh) and 2,540 GWh for alternatives 1 and 2, respectively.

Applicant Contacts: Michael Regulinski, Dominion Energy Virginia, 120 Tredegar Street, RS-2, Richmond, Virginia 23219; phone: 804-819-2794, and Michael Swiger, Van Ness Feldman, LLP, 1050 Thomas Jefferson Street NW., Washington, DC 20007; phone: 202-298-1891.

FERC Contact: Woohee Choi; phone: (202) 502-6336.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14854-000.

More information about this project, including a copy of the application, can be viewed or printed on the “eLibrary” link of the Commission's Web site at http://www.ferc.gov/docs-filing/elibrary.asp. Enter the docket number (P-14854) in the docket number field to access the document. For assistance, contact FERC Online Support.

Dated: September 29, 2017.
Nathaniel J. Davis, Sr.,
Deputy Secretary.

[FR Doc. 2017-21874 Filed 10-10-17; 8:45 am]

BILLING CODE 6717-01-P